DEPARTMENT OF DEFENSE

Department of the Air Force

[Docket ID USAF-2020-HQ-0011]

Privacy Act of 1974; System of Records

AGENCY: Department of the Air Force (AF), Department of Defense (DoD).

ACTION: Rescindment of a System of Records Notice (SORN).

SUMMARY: The Office of the Secretary of the Air Force is rescinding a System of Records, Chaplain Personnel Action Folder, F052 AFHC C. The records in this system are covered by SORN F036 AF PC C, Military Personnel Records.

DATES: This System of Records rescindment is effective upon publication.

FOR FURTHER INFORMATION CONTACT: Mr. Bill Feeney, Department of the Air Force, Air Force Privacy Office, Office of Warfighting Integration and Chief Information Officer, ATTN: SAF/CN, 1800 Air Force Pentagon, Washington, DC 20330-1800, or by phone at (703) 614-6622.

SUPPLEMENTARY INFORMATION: The Chaplain Personnel Action Folder maintained information on the assignments and selection of chaplains to insure an equitable distribution of chaplains on an installation by denomination. This System of Records was used by the Chaplain Support Element, Headquarters United States Air Force, which no longer exists. A deletion of this System of Records is being requested as the function is no longer accomplished at Air Force Headquarters and the files within this System of Records have been destroyed in accordance with the National Archives and Records Administration retention and disposition instructions. The subject records are now covered by the Military Personnel Records SORN, F036 AF PC C.

The DoD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act, as amended, were submitted on July 10, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Chaplain Personnel Action Folder, F052 AFHC C.

HISTORY:

February 22, 1993, 58 FR 10354.

Dated: August 3, 2020.
Aaron T. Siegel,
Alternate OSD Federal Register Liaison Officer, Department of Defense.

[FR Doc. 2020-17264 Filed 8-6-20; 8:45 am]

BILLING CODE 5001-05-P